DEPARTMENT OF ENERGY

Federal Energy Regulatory Commission

[Project No. 382-108]

Southern California Edison Company; Notice of Waiver Period for Water Quality Certification Application

On September 17, 2024, Southern California Edison Company submitted to the Federal Energy Regulatory Commission (Commission) a copy of its application for a Clean Water Act section 401(a)(1) water quality certification filed with the California State Water Resources Control Board, in conjunction with the above captioned project. Pursuant to Section 5.23(b) of the Commission's regulations,¹ we hereby notify the California State Water Resources Control Board of the following:

¹ 18 CFR 5.23(b).

Date of Receipt of the Certification Request: September 17, 2024.

Reasonable Period of Time to Act on the Certification Request: One year (September 17, 2025).

If the California State Water Resources Control Board fails or refuses to act on the water quality certification request on or before the above date, then the agency certifying authority is deemed waived pursuant to section 401(a)(1) of the Clean Water Act, 33 U.S.C. 1341(a)(1).

Dated: October 17, 2024.
Debbie-Anne A. Reese,
Secretary.

[FR Doc. 2024-24521 Filed 10-22-24; 8:45 am]

BILLING CODE 6717-01-P